SMALL BUSINESS ADMINISTRATION

Disaster Declaration #12548 and #12549

Mississippi Disaster Number MS-00045

AGENCY: U.S. Small Business Administration.

ACTION: Amendment 2.

SUMMARY: This is an amendment of the Presidential declaration of a major disaster for the State of Mississippi (FEMA-1972-DR), dated 04/29/2011.

Incident: Severe Storms, Tornadoes, Straight-line Winds, and Associated Flooding.

Incident Period: 04/15/2011 through 04/28/2011.

Effective Date: 05/09/2011.

Physical Loan Application Deadline Date: 06/28/2011.

EIDL Loan Application Deadline Date: 01/30/2012.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Presidential disaster declaration for the State of Mississippi, dated 04/29/2011 is hereby amended to include the following areas as adversely affected by the disaster:

Primary Counties: (Physical Damage and Economic Injury Loans): Alcorn, Attala, Clay, Coahoma, Desoto, Grenada, Holmes, Leflore, Marshall, Montgomery, Newton, Panola, Quitman, Smith, Sunflower, Tishomingo, Tunica, Winston.

Contiguous Counties: (Economic Injury Loans Only):

Mississippi: Benton, Bolivar, Carroll, Covington, Humphreys, Prentiss, Tallahatchie, Tippah, Washington,

Alabama: Colbert, Franklin, Lauderdale,

Arkansas: Crittenden, Desha, Lee, Phillips,

Tennessee: Fayette, Hardeman, Hardin, Mcnairy, Shelby.

All other information in the original declaration remains unchanged.

(Catalog of Federal Domestic Assistance Numbers 59002 and 59008)

James E. Rivera,
Associate Administrator for Disaster Assistance.

[FR Doc. 2011-12254 Filed 5-17-11; 8:45 am]

BILLING CODE 8025-01-P